ENVIRONMENTAL PROTECTION AGENCY

40 CFR Part 52

[GA54—200025; FRL-6858-8]

Approval and Promulgation of Implementation Plans Georgia: Approval of Revisions for a Transportation Control Measure

AGENCY: Environmental Protection Agency (EPA).

ACTION: Final rule.

SUMMARY: EPA is approving revisions to the Georgia State Implementation Plan (SIP) for the Atlantic Steel Transportation Control Measure (TCM) submitted by the State through the Department of Natural Resources on March 29, 2000, and revised and resubmitted on August 1, 2000.

EFFECTIVE DATE: This rule will be effective September 27, 2000.

ADDRESSES: Materials relevant to this rulemaking are contained in Docket No. GA54-200025. The docket is available at the following address for inspection during normal business hours: Environmental Protection Agency, Region 4, Air Planning Branch, 61 Forsyth Street, SW, Atlanta, Georgia 30303-8960. Contact Dr. Robert W. Goodwin at 404/562-9044.

FOR FURTHER INFORMATION CONTACT: Dr. Robert W. Goodwin at 404/562-9044, E-mail: Goodwin.Robert@epa.gov.

Information regarding Project XL and the Atlantic Steel Final Project Agreement is available via the Internet at the following location: “http://www.epa.gov/ProjectXL”.

SUPPLEMENTARY INFORMATION:

I. Background

Today's action finalizes EPA's approval of the Atlantic Steel TCM into the Georgia SIP. A detailed description of the Atlantic Steel TCM may be found in the Notice of Proposed Rulemaking for today's action, which was published in the Federal Register on April 10, 2000 (65 FR 18947). The proposal's comment period ended May 10, 2000. In addition, EPA and the Georgia Department of Transportation (GDOT) held a public information meeting (PIM) on April 18, 2000, to provide updates on the proposed 17th Street bridge and Atlantic Steel redevelopment projects, and to provide an opportunity for public comment. EPA received one comment letter during the comment period from the Ansley Park Civic Association (APCA) dated May 10, 2000, and one comment letter after the comment period closed from the Georgia Sierra Club Challenge to Sprawl Campaign dated May 16, 2000. EPA also received several individual comments at the PIM regarding the proposed TCM. Copies of the comments in their entirety may be obtained from the docket for this rule (see ADDRESSES).

The City of Atlanta (sponsor of the TCM), Jacoby Atlantic Redevelopment (hereafter referred to as “the developer”), and EPA collaborated to develop minor revisions to the TCM. The City submitted the revisions to the Georgia Environmental Protection Division (EPD) on July 27, 2000, and EPD submitted the SIP revisions to EPA on August 1, 2000. EPA believes that the revisions help address concerns raised by commenters and strengthens the potential for superior environmental performance of the TCM. The revisions are described in detail in EPA's response to comments below.

II. Response to Comments

1. Comment: “Appropriate measures should be taken to protect surrounding neighborhoods from adverse traffic and air quality impacts generated by the Atlantic Steel development.”

Response: EPA, in cooperation with the Federal Highway Administration and the Federal Transit Administration, has completed an Environmental Assessment (EA) of the Atlantic Steel redevelopment and 17th Street bridge and associated interchange and roadway modifications. The EA has been prepared in accordance with the National Environmental Policy Act of 1969 (NEPA) as amended; EPA's “Policy and Procedures for Voluntary Preparation of NEPA Documents” (63 FR 58045), generally following the procedures set out at 40 Code of Federal Regulations (CFR) Part 6, Subparts A through D; and the United States Department of Transportation's “Environmental Impact and Related Procedures” (23 CFR 771). The EA provides a summary of planning efforts associated with the development of concept alternatives, traffic studies, preliminary engineering analysis, and environmental impact assessments, all of which have been completed with opportunities for public comment and agency coordination, as part of the NEPA process as well as EPA's Project XL. The EA describes the potential impacts to existing environmental conditions in the study area, which includes the surrounding neighborhoods, as a result of the proposed 17th Street extension and Atlantic Steel redevelopment. The description of impacts focuses on the resources most affected by the proposed action, including localized traffic and air quality impacts, and mitigative measures are proposed where appropriate.

Regarding traffic impacts on surrounding neighborhoods generated by the Atlantic Steel redevelopment, Atlantic Steel zoning condition #4 requires the developer to work with the City of Atlanta and Home Park to limit cut-through traffic on residential streets perpendicular to and south of 16th Street by means of cul-de-sacs, speed humps, gates, control arms, and other traffic-calming devices, and to work with the City of Atlanta and Loring Heights neighborhood to limit cut-through traffic on Bishop Street. In addition, EPA Region 4 has drafted and is coordinating a Memorandum of Understanding (MOU) between EPA, the City of Atlanta, GDOT, the Georgia Regional Transportation Authority, and the developer which seeks the concurrence of the Midtown Alliance, APCA, the Home Park Community Improvement Association, and the Loring Heights Neighborhood Association to establish a community-based planning process to collect specific data on future trips associated with the redevelopment of the Atlantic Steel site and other projects in Midtown Atlanta in order to study the magnitude and cumulative effects of traffic in the neighborhoods and develop and implement means of minimizing these impacts.

Regarding air quality impacts on surrounding neighborhoods generated by the Atlantic Steel redevelopment, EPA performed a carbon monoxide (CO) hotspot analysis, which is included in the docket for this rulemaking, and concluded that the Atlantic Steel redevelopment and associated roadway improvements would be extremely unlikely to create a localized violation of the National Ambient Air Quality Standards (NAAQS) for CO in the foreseeable future. In addition, EPA performed a regional emissions analysis, which is included in the docket for this rulemaking, and concluded that the Atlantic Steel redevelopment would produce fewer transportation-related emissions of volatile organic compounds and oxides of nitrogen, precursors to ground-level ozone formation, than a comparable amount of development built at other likely locations in the Atlanta region.

In addition, the Atlantic Steel TCM contains four site design criteria and four performance targets which will collectively help ensure both that the redevelopment is designed and built with elements that encourage alternatives to single-occupancy automobile trips, and also that the project will perform up to its potential to lower vehicle-miles traveled and concomitant emissions. EPA believes that the EA, zoning conditions, MOU, localized and regional emissions studies, and site design criteria and performance targets identify and establish appropriate measures to protect surrounding neighborhoods from adverse traffic and air quality impacts generated by the Atlantic Steel redevelopment.

2. Comment: “The TCM Document freely acknowledges that this project could not go forward under existing statutory and regulatory requirements. Only because EPA has adopted Project XL which appears to be an exception to the legal regime within which EPA must operate is the project even being considered.”

Response: EPA disagrees with this comment. There is no statutory or regulatory requirement that would prevent the Atlantic Steel project from being considered a TCM in the absence of Project XL. It is clear that by creating an illustrative list of potential TCMs in the Clean Air Act (CAA) that Congress intended that EPA should have the discretion to identify other types of TCMs than those listed in 42 United States Code (U.S.C.) Sections 7408(f)(1)(A)(i)-(xvi). In fact, as EPA pointed out in the proposed rulemaking, there are many individual components of this project that could be considered TCMs as defined by the CAA and EPA's Transportation Conformity Rule (40 CFR 93.101), including the bike and transit lanes on the proposed 17th Street bridge. The Atlantic Steel project is the first of its kind to combine these components, including site design and location, together as a TCM. In addition, EPA has traditionally relied on a “build/no-build” analysis to estimate the emissions benefits of proposed TCMs, i.e., the emission reduction benefits would be estimated by comparing projected transportation-related emissions if the project is built to those if the project isn't built. However, EPA does not believe the traditional build/no-build analysis is appropriate for the Atlantic Steel TCM because the traditional no-build analysis would not take into account the probability and location of development that will occur in the absence of the Atlantic Steel redevelopment.

Therefore, EPA is using the flexibility of Project XL for two reasons: (1) to view the redevelopment and associated transportation elements, including the bridge, together as a TCM; and (2) to estimate the air quality benefit of the Atlantic Steel redevelopment relative to an equivalent amount of development at other likely sites in the region. EPA believes that this emissions analysis is appropriate for the Atlantic Steel project because EPA expects that the Atlanta region will continue to grow, and that at least part of the development represented by the Atlantic Steel project would be built at other potential sites in the region, if the Atlantic Steel TCM were not approved.

EPA would like to clarify that it is only the 17th Street bridge and associated interchange modifications that could probably not proceed under existing Federal statutory and regulatory requirements during a transportation conformity lapse. Certainly, redevelopment of the Atlantic Steel site could proceed without Federal action. The City's zoning conditions require construction of the 17th Street bridge, and it is the 17th Street bridge and interchange modifications that require Federal action. However, without the bridge, the land would likely be re-zoned and redeveloped with a different design and mix of uses than what is currently proposed. The revised design would likely be much less transit and pedestrian-oriented and would not benefit from a direct connection to the Metropolitan Atlanta Rapid Transit Authority (MARTA) Arts Center station afforded by the bridge. EPA therefore believes that, in the absence of the 17th Street bridge with the direct transit connection to the MARTA Arts Center station, the potential air quality benefits of the resulting redevelopment would be less than the current proposal.

In addition, if the Atlantic Steel redevelopment and 17th Street bridge are not approved together as a TCM, the 17th Street bridge could still be approved separately after the transportation conformity lapse in Atlanta has been lifted, and many of the features of the redevelopment as described under Project XL would likely be lost. In an April 24, 2000, letter from the City of Atlanta to EPA, Commissioner Michael A. Dobbins wrote that in that case “[the City] would expect the site to be developed * * * in pieces where it would be improbable that an overarching vision of a cohesive ‘village’ or ‘town’ would emerge. Transit linkages, and thus usage, would not be likely nor even to a large extent, possible. * * * In addition, other internal connections, like pedestrian continuity or provision of continuous streetscapes and usable green space would be problematic.” Furthermore, “components would be built as a series of single-use developments rather than comprehensively. As a consequence, the opportunities for intermixing these uses would be limited. Adjacent land uses probably would be less compatible and not as mutually supportive. Parking would be built on a per site needs basis with less opportunity for shared or coordinated parking strategies, resulting in more parking spaces overall.”

EPA, through Project XL, worked with the developer and a well-known urban design planner to improve the initial site design. Without Project XL, and ultimately the TCM, EPA and other stakeholders would not have had as great an impact on the pedestrian/transit orientation of the project. The Project XL process provided many opportunities for community input. Stakeholder involvement in the regulatory process is typically much more limited than that provided through the Project XL and TCM processes.

In this project, the use of flexibility to allow a major downtown redevelopment with associated transportation improvements to proceed during a conformity lapse raises complex legal, policy, and scientific issues and uncertainties. These issues and uncertainties will require extensive post-implementation analysis before EPA can determine whether such flexibility can or should be offered to other entities in the future. Therefore, as with all XL projects, the flexibility granted in connection with the approval of this SIP revision, in and of itself, establishes no precedent with regard to other redevelopment projects.

3. Comment: “We believe that because the Atlantic Steel redevelopment and related roadway construction (the ‘Atlantic Steel Project’) admittedly is deficient under EPA's existing requirements for designation as a TCM, the Atlantic Steel Project must be subjected to a greater level of scrutiny to determine whether it is an appropriate exercise of EPA authority.”

Response: In the proposed rulemaking, EPA identified six criteria established by EPA policy (“Transportation Control Measures: State Implementation Plan Guidance,” U.S. EPA Office of Air Quality Planning and Standards, September 1990) that a proposed TCM must satisfy before it may be considered for inclusion in the SIP. The proposed rulemaking also contained detailed explanations of how the proposed Atlantic Steel TCM satisfied EPA's criteria. EPA has no statutory or regulatory responsibility to subject the Atlantic Steel TCM to a greater level of scrutiny than any other TCM. Nevertheless, it is the opinion of EPA that the Atlantic Steel TCM has indeed been subject to intense scrutiny, particularly in terms of satisfying EPA's six TCM criteria.

4. Comment: “The TCM Document does not cite any legal authority permitting EPA to adopt Project XL.”

Response: EPA is approving the Atlantic Steel TCM into the Georgia SIP under the authority of sections 108(f) and 110 of the CAA. In Project XL, the EPA and state regulators utilize tools under existing statutory authority to provide appropriate flexibility from otherwise applicable regulatory requirements. As explained in the proposed rulemaking, EPA is approving the redevelopment as a TCM because its location, transit linkage, site design, and other transportation elements together comprise a measure for the purpose of reducing emissions or concentrations of air pollutants from transportation sources by reducing vehicle use or changing traffic flow or congestion conditions. In addition, the redevelopment includes specific elements listed in section 108(f). Under section 110 of the CAA, EPA approves measures into the SIP that contribute to attainment of the NAAQS.

5. Comment: “To approve the Atlantic Steel TCM, EPA must at a minimum ensure that it does not produce local pollution problems while reducing regional emissions, including carbon monoxide (CO) hot spots.”

Response: EPA voluntarily undertook a CO hotspot analysis for the Atlantic Steel TCM and concluded that it would be extremely unlikely to create a violation of the NAAQS for CO in the foreseeable future. This type of analysis is required by EPA's Transportation Conformity Rule (40 CFR 93 Subpart A) only in CO and PM10 (particles with an aerodynamic diameter less than or equal to a nominal 10 micrometers) nonattainment and maintenance areas (40 CFR 93.116). EPA has designated Atlanta attainment under the NAAQS for CO and PM10.

6. Comment: “The CO local hotspot analysis is flawed and must be recomputed using accurate forecasts of travel demand behavior in the Midtown area. Consultants hired by EPA performed a CO impact assessment of the Atlantic Steel Project and concluded that ‘the project is extremely unlikely to create a violation of ambient air quality standards for carbon monoxide in the foreseeable future.’ The CO Report indicates that it used data input files from a variety of sources, including the Atlanta Regional Commission's (ARC) TRANPLAN regional travel demand model. The ARC TRANPLAN model, however, projects that from 2000-10 Midtown will grow by 4,528 jobs and 193 residents. These projections are fundamentally unsound. There is in excess of 4 million square feet of office space and 1,398 residential units currently under construction with another 892,700 square feet of office space and 1,243 residential units proposed for the Midtown area. When completed, this space could accommodate more than 17,000 office employees and 1,700 residents [assuming one employee per 300 square foot of office space and 1.5 residents per residential unit]. By materially underestimating population and job growth in the Midtown area, TRANPLAN necessarily materially underestimates key information including, traffic volume and traffic congestion, required for the calculation of local CO emissions. The CO hotspot analysis is therefore fatally flawed and cannot support the conclusion that the Atlantic Steel Project will not produce any CO hotspots. Further analysis of the CO impacts of the Atlantic Steel Project is required before approval of the Atlantic Steel TCM may be granted.”

Response: The traffic volume projections for the year 2025 used in the Atlantic Steel CO hotspot analysis consisted of two parts: (1) “Background” traffic that would exist regardless of whether Atlantic Steel is redeveloped, and (2) additional traffic generated by the redevelopment. The commenter is concerned that the background traffic volumes for Midtown were underestimated due to perceived deficiencies in ARC's regional travel demand model. However, ARC's travel demand model was not used to generate the background or the redevelopment-related traffic volumes in the CO hotspot analysis. ARC's travel model was used only to predict the origin and destinations and distribution of trips in the study area, not the total number of trips. The 2025 background traffic volumes were generated by growing 1998 observed surface street traffic volumes by 2 percent per year and observed freeway traffic volumes by 1.5 percent per year. This is equivalent to a 71 percent increase in surface street traffic volumes and a 49 percent increase in freeway traffic volumes in Midtown between 1998 and 2025. The 2025 Atlantic Steel-related traffic volumes were based on Institute of Transportation Engineers (ITE) trip generation equations applied to the Atlantic Steel redevelopment build-out projections, reduced by 10 percent to account for internal capture and 15 percent for transit.

In addition, the CO hotspot analysis was conservative in that it considered conditions most likely to produce CO hotspots in terms of meteorology, traffic congestion, and receptor location. Furthermore, the CO hotspot analysis was completed before EPA finalized its Tier 2 tailpipe emissions and gasoline sulfur standards, which should reduce future motor vehicle CO emission rates below those assumed in the CO hotspot analysis.

7. Comment: “The travel and emissions analysis presented in the Hagler Bailly Report is inaccurate and unreliable. The travel and emissions analysis relies on inaccurate population and employment projections for the Midtown area. The Hagler Bailly Report purports that the Atlantic Steel Project performs better from a regional perspective both in terms of vehicle-miles traveled (VMT) and mobile source emissions when compared to a similar development located elsewhere in the metropolitan region. In calculating regional emissions, the Hagler Bailly Report indicates that they used the ARC regional transportation model TRANPLAN. This ‘models behavior given the population and employment projected and distributed for year 2015.’ However, ARC projects that Midtown Atlanta will add only 4,528 jobs and 193 residents between 2000 and 2010 (see Hagler Bailly Report at p. 7), which projections obviously and dramatically underestimate population and employment growth in the Midtown area, as discussed above. By materially underestimating population and employment growth in the Midtown area, the model necessarily underestimates key information used to calculate air quality emissions arising from the Atlantic Steel Project, including number of trips, traffic volumes and traffic speeds. The model output and the resulting comparative analysis of the travel and emissions projections for the Atlantic Steel site and alternative regional sites are therefore inaccurate and unreliable. Based on such materially flawed estimates, no rational administrative body can conclude that the Atlantic Steel Project produces the necessary air quality benefits to qualify for inclusion as a TCM in the State of Georgia State Implementation Plan.”

Response: EPA utilized ARC's travel demand model to perform a comparative analysis of projected VMT and associated emissions generated by the proposed Atlantic Steel redevelopment and three other hypothetical developments of similar magnitude at other likely sites in the Atlanta region. The study analyzed the differences in regionwide VMT and emissions between the four scenarios. The effects of any inaccuracies in the Midtown population and employment growth assumptions in the ARC travel demand model would be present in all four scenarios and would probably tend to cancel each other to a certain extent in the comparative analysis.

There is no reason to expect that using lower-than-expected background Midtown growth would bias the analysis in favor of the Atlantic Steel site. Rather, if Midtown grows faster than forecast, one would expect the regional travel and emissions benefits of the Atlantic Steel redevelopment to be even greater than forecast. The principal measure of the Atlantic Steel project's potential for reducing future transportation-related emissions is the reduction in VMT compared to the other scenarios. VMT, in turn, is predominantly a function of proximity to other origins and destinations. It is likely that if the Midtown employment and population estimates had been higher in ARC's model, given the relatively short travel distances and high transit and pedestrian accessibility between the Atlantic Steel project and Midtown, then the performance of Atlantic Steel Project would have been even better compared to the other scenarios in terms of its potential to reduce VMT and concomitant emissions.

EPA would also like to clarify that ARC is the officially designated Metropolitan Planning Organization for the Atlanta region per 23 U.S.C. 134 and section 8 of the Federal Transit Act, and ARC is therefore responsible for developing population and employment forecasts for use in transportation and other planning activities for the region. As such, the population and employment growth forecasts contained in the ARC travel demand model for Midtown represented the most recent and best data available to EPA at the time of EPA's Atlantic Steel regional emissions analysis.

8. Comment: “The transit usage percentage assumptions used in the Hagler Bailly Report are unsupported and unreliable. The Hagler Bailly Report assumed a 37% transit share for the project (27.07% work and 10.68% non-work, see p. 24). We have explained why that analysis is unsupported in our letter to Mr. Ben West at EPA dated April 26, 2000, and refer you to that letter, a copy of which is enclosed for your information. The transit share assumptions presented by Hagler Bailly are not supported. Since transit travel reduces VMT for a site, the size of the transit share assumption is a material component of the input data to the MOBILE5a model used by Hagler Bailly to calculate the projected emissions from the Atlantic Steel Project and similar development at alternative regional locations. Hagler Bailly assumed that transit share was greatest at the Atlantic Steel site (37%), compared to 18.5% at the Perimeter/Sandy Springs site, 2.6% at the Fulton/Cobb site and no transit at the Henry County site. The Hagler Bailly Report purports that locating development at the Atlantic Steel site produces significant regional emissions benefits compared to locating the development at the alternative regional locations chosen based on the output of the MOBILE5a modeling (see Figure 6) using the above transit share input data.”

Response: The transit shares in the regional emissions analysis were not assumed a priori, but rather they resulted from calculated forecasts using ARC's travel demand model. The model calculated a 27 percent transit share for work-related trips and a 10 percent share for non-work trips. With respect to the assumptions used in the modeling, the model is based on travel surveys and calibrated to travel behavior in the Atlanta region. The model is the same one that is used for regulatory submissions for the Atlanta region. EPA can provide a full set of model documentation upon request.

In addition, it is mathematically improper to add the two transit share numbers to obtain a total transit share. Because work trips are only around a quarter of the trips associated with the site, a weighted average is needed to obtain a total transit share of all trips. Such a calculation would yield something between 10 percent and 27 percent, with a result likely around 15 percent.

EPA responds to the specific points regarding the Hagler Bailly transit usage percentage assumptions raised in APCA's April 26, 2000, letter to Mr. Ben West in response to comment #9 below.

9. Comment: “[The Hagler Bailly] study contains a chart (p. 23) stating that it estimated 27% of work-related trips and 11% of non-work related trips would be made by transit. The study explains those estimates as based on the Atlanta Regional Commission's transportation model (the ‘ARC model’). However, the Hagler Bailly study does not explain the assumptions plugged into the ARC model which resulted in the 27%/11% figures. Nor does the Concept Report. Moreover, Hagler Bailly estimated a regional average of 8% for work-related trips and 2% for non-work related trips. Thus, the ARC model estimated that transit use for Atlantic Steel would be 300% to 500% higher than the regional average, a dramatic difference which illustrates the importance of the failure to explain the 27%/11% estimates. Finally, the Hagler Bailly study acknowledged that the use of the ARC model included undefined ‘selective judgments’ and that the ARC model usage was compromised insofar as the consultants lacked ‘information about households’ in the affected areas and they were forced to use ‘regional average’ socioeconomic data instead. Thus, the Concept Report provides no information, much less evidence, to support Hagler Bailly's use of the ARC model to arrive at the assumption of 27%/11% transit use. Therefore, the Hagler Bailly study presents no basis upon which a rational administrative decision could be predicated.”

Response: EPA developed limited inputs to ARC's travel demand model in order to include the Atlantic Steel project in the regional emissions analysis. The inputs were specific to the project and were confined to the traffic analysis zones in which the development would be located. The inputs included: the total number of residents and employees; households stratified by income and number of occupants; the highway network link(s) representing the 17th Street bridge; and the transit network link(s) representing the transit service. EPA did not alter ARC's inputs for the socioeconomic data and transportation network for the remainder of the Atlanta region, or the variables internal to the model which describe travel behavior (e.g., trip generation rates, mode choice model).

EPA assumed that the Atlantic Steel project would accommodate 6,000 residents and 17,483 employees by the year 2015 (page 45 of the Hagler Bailly study). Due to variability in forecasts of the socioeconomic characteristics of the households in the redevelopment, EPA chose to use regional averages to distribute the 6,000 residents into households by income and number of residents per household. EPA would like to clarify that this assumption was used only for the Atlantic Steel redevelopment, and not for households in surrounding areas, for which the ARC inputs were used. EPA believes that this was a reasonable assumption for the purposes of the study. EPA consulted with the developer in order to classify the 17,483 employees by employment type (e.g., construction, manufacturing, retail, service) based on forecasted uses of the site. 17th Street was modeled with two general purpose lanes in each direction and one high-occupancy vehicle (HOV)/transit lane in each direction stretching from Northside Drive to the west of the Atlantic Steel site through the site and bridging Interstate-75/85 to Spring, West Peachtree, and Peachtree Streets to the east. It also included (general purpose) connections from Interstate-75/85. The transit service was modeled as a bus route connecting the site and the MARTA Arts Center station, operating 10 hours a day at 15 minute headways (time between buses), free of charge. EPA would like to point out that the developer has committed in the TCM to providing bus service which complements the hours of service and headways of the trains serving the MARTA Arts Center station. Currently, this means that the bus service would operate 18.5 to 20 hours per day at four to eight minute headways. All of these assumptions are contained in the docket for this rulemaking.

EPA executed ARC's travel demand model using the inputs described above, and the model predicted that 11 percent of non-work related trips associated with the Atlantic Steel redevelopment, and 27 percent of the work-related trips would take transit. Spot checks of transit mode splits predicted by ARC's model for areas surrounding the Atlantic Steel site were made and were found to be consistent with the predictions for the redevelopment. Furthermore, it is likely that the predicted transit mode splits for the Atlantic Steel redevelopment would have been even higher if the transit service had been modeled using the longer hours of service and shorter headways contained in the TCM. Finally, the reason the regional average transit mode share is much lower (8 percent for work-related trips and 2 percent for non-work-related trips) is because it includes a significant number of areas that lack reasonable walk or drive access to transit, which lowers the average.

10. Comment: “In addition, the Hagler Bailly analysis assumes the existence of transit service for the entire period tested even though transit service is required to be provided only for a period of 10 years after the 17th Street bridge opens to traffic.”

Response: The Atlantic Steel TCM has been revised to include a commitment by the developer to provide the rubber-tired shuttle service for ten years from the date that the 17th Street bridge opens to traffic or until December 31, 2015, whichever is longer. The developer's obligation will cease if, during the period of obligation, an appropriate entity operates a fixed mass transit link providing a similar level of service. The commitment in the TCM is now consistent with the transit connection modeled in the regional emissions analysis.

11. Comment: “The critical finding of the TCM Document is based on that flawed analysis. Specifically, “that the Atlanta region will continue to grow, and that redevelopment of the Atlantic Steel site will produce fewer air pollution emissions than an equivalent quantity of development that likely would occur at other potential sites in the region, if the Atlantic Steel redevelopment were not to occur.”

Response: EPA believes that the findings of the regional emissions analysis are sufficient. First, based on historical trends and current projections it is reasonable to assume that the Atlanta region will continue to grow. According to ARC, since 1970 the population of the Atlanta region has more than doubled, and ARC projects that it will continue to grow by another 42 percent by the year 2025. Second, based on historical trends and current projections it is reasonable to assume that some fraction of the development represented by the Atlantic Steel redevelopment would locate outside of the urban core if it is not built at the Atlantic Steel site. According to ARC, while the regional population more than doubled since 1970, the population of the City of Atlanta, located at the core of the region, declined by roughly 14 percent. In addition, since 1980, only 3 percent of the growth in jobs has occurred in the core. According to ARC projections, between 2000 and 2025, 90 percent of new residents and 80 percent of new jobs in the region are expected to locate outside the City of Atlanta. Finally, EPA believes that it is reasonable to conclude that a high density, mixed-use development, centrally located in the urban core and designed with high transit and pedestrian accessibility would create less VMT and concomitant emissions than a comparable development at a less regionally central, less transit and pedestrian accessible location.

12. Comment: “The unsupported transit share input data, together with the unwarranted assumption of continuous transit service for the period tested, invalidates the model output. Therefore, the Hagler Bailly comparison of projected emissions at the Atlantic Steel site and development at an alternative regional location (see Hagler Bailly Report at Figure 6, p. 21) does not present a rational basis for the above-quoted finding in the TCM Document and thus cannot support an administrative decision that the Atlantic Steel Project qualifies as a TCM for inclusion in the State of Georgia SIP.”

Response: EPA explained in the responses to comments #8 and #9 that the transit share data are outputs of the model and not input data, and that the developer has committed to supply the shuttle bus through the period considered in the regional emissions analysis.

13. Comment: “There is insufficient evidence that funding has been (or will be) obligated to implement the measure. EPA indicates that this is one of the six criteria required to be satisfied before designation of a measure as a TCM. While identifying the source of funding of all related construction costs for the Atlantic Steel TCM, the TCM Document fails to identify a source of funding to ensure that all performance targets are met. The TCM Document provides that if the performance targets for the project are not met, the developer must identify funding or fund a Transportation Management Association (TMA) for 20 years, if employers and property managers are not already participating in one. It is presently anticipated that employers and property managers will participate in the TMA being set up for the Midtown business district. As presently proposed, no further obligation to ensure compliance with the performance targets is imposed on the developer once initial funding for the TMA has been identified. Thereafter, the City of Atlanta, not the developer, must ensure that the performance targets are met at each evaluation period. The TCM fails to identify a source of funding for the obligations imposed on the City of Atlanta to monitor the effectiveness of the Atlantic Steel TCM and to take additional measures to ensure performance targets are met. These additional measures could include providing increased transit service or undertaking traffic calming measures involving construction on city streets, the costs of which are not discussed or identified. Neither the City of Atlanta Transportation Impact Fee Ordinance nor the Atlantic Steel Brownfield Area and Tax Allocation District Number Two, both identified as sources of funding for construction costs relating to the Atlantic Steel Project, contemplate use of such funds to provide transit service at the site or other measures to ensure TCM performance targets are met. To satisfy this EPA criterion for designation of the Atlantic Steel Project as a TCM, both the amount of funds that could reasonably be anticipated to meet these additional obligations and a source of such funds must be identified. This is particularly critical given the limited obligation to maintain transit at the site currently contemplated in the TCM Document.”

Response: Regarding a source of funding for the obligations imposed on the City of Atlanta to monitor the effectiveness of the Atlantic Steel TCM, the developer has committed to monitoring and collecting the travel behavior data along with the City of Atlanta. This commitment includes funding. The Atlantic Steel TCM has been revised to include this commitment.

EPA disagrees that the TCM must identify the amount and source of funds for as yet undetermined additional future strategies that might be necessary to meet the performance targets contained in the TCM. It is not possible to predict every possible outcome of the implementation of the Atlantic Steel TCM, however EPA believes that the mechanisms contained in the TCM are sufficient to ensure that the project will be monitored and potential problems will be identified and addressed as needed.

EPA believes that the TCM performance targets will be met without any additional strategies. As a safeguard, the TCM includes both a monitoring program to assess whether the targets have been met and a commitment by the City of Atlanta to fund or identify funding for any additional strategies needed to meet the targets. The scope, design, and costs of any potential additional strategies will depend on the nature of the transportation problem(s) and on the associated travel behavior. The monitoring program for the Atlantic Steel TCM has been designed to collect the data that will form the basis for any additional strategies needed to meet the performance targets in the TCM. If and when the project fails to meet one or more of the performance targets in the TCM, it will be the federally-enforceable responsibility of the City of Atlanta, as sponsor of the Atlantic Steel TCM, to either identify the funding source(s) or fund the strategies necessary to meet the performance targets contained in the TCM.

14. Comment: “The monitoring program to assess the measure's effectiveness and to allow for necessary in-place corrections or alterations fails to include important and necessary elements. Site design criteria are insufficient because they omit a standard for traffic speeds in the development and a standard for pedestrian route directness. In the discussion of the relative merits of the three site designs analyzed, the TCM Document indicates that the Jacoby redesign and the Duany Plater-Zyberk & Co. (DPZ) design excel when compared to the original Jacoby design for three reasons. The site design criteria included in the TCM Document already reflects two of those reasons but fails to include the third which is that ‘the pedestrian environment is improved through street design that includes more direct routing and slower traffic speeds.’ Since EPA itself considers traffic speeds and pedestrian route directness important and because the City of Atlanta zoning conditions do not address these issues, they should be included as additional site design criteria in the TCM Document with appropriate targets.”

Response: EPA believes that the site design criterion entitled “External Street Connectivity,” which requires the average distance between site ingress/egress streets to be less than or equal to 1,000 feet, serves as a surrogate for pedestrian route directness that is simpler to monitor and enforce. This criterion will ensure that the street network and associated sidewalks and bike paths in the redevelopment will be well integrated into the existing fabric of the surrounding neighborhoods, thereby enhancing pedestrian route directness. In addition, the original site plan, particularly the west side, was altered based on the DPZ design to better frame the pedestrian areas by creating clear progressions of pedestrian-oriented uses. Pedestrian-oriented retail has been added to the west side along 16th Street and around a public plaza at the heart of the technology park (as depicted in the original design), now a reconfigured and newly defined “Tech Village.” Independent of the defined pedestrian route system along the community's streets, a secondary pedestrian route system is defined through a series of parks and plazas, not only linking the various uses within the redevelopment, but also linking the adjoining neighborhood to the south.

In terms of traffic speeds, the external street connectivity criterion should also result in intersections that are spaced more closely together, which will have an inherent traffic calming effect. In addition, the developer incorporated site design recommendations made by DPZ that will reduce speeds. For example, to address the issue of high-speed geometries, block sizes were reduced and the road network was reconfigured to parallel the existing urban grid system. Building setbacks were eliminated where possible. In many cases, buildings start at the right-of-way line. Furthermore, on-street parking is a traffic calming device that is integral to an urban pedestrian streetscape, and the developer has committed in the XL Final Project Agreement to pursue on-street parking on all streets other than 17th Street within the development. 17th Street is the exception because initial discussions with GDOT and traffic engineers have identified the area around the lake and park as the only appropriate section of 17th Street to accommodate on-street parking.

For these reasons, EPA believes that it is unnecessary to include detailed standards for traffic speeds and pedestrian route directness in the TCM.

15. Comment: “The proposed method of evaluation of the development as a transportation control measure is insufficient. Evaluation of the Atlantic Steel Project as a transportation control measure occurs 2, 3½, and 5 years after the 17th Street bridge opens to traffic. At these intervals, VMT per resident, VMT per employee and mode split will be examined. The TCM Document imposes no further obligation on the developer if VMT per resident or VMT per employee is equal to or lower than the regional average or if the modal split is greater than or equal to the regional average. The Atlanta regional VMT averages are presently among the highest in the nation and the modal split is below 8%. EPA has granted flexibility for this development under Project XL precisely because the project is expected to generate fewer vehicle miles of travel. Including targets that are merely equal to the regional averages is inconsistent with the justification provided by EPA for designation of the Atlantic Steel Project as a TCM. These evaluations should have average VMT for residents and employees that are lower than regional averages and decline gradually at each successive evaluation and a modal split target greater than regional averages and gradually increasing at each successive evaluation to justify the flexibility granted for the Atlantic Steel Project.”

Response: EPA would like to clarify that monitoring of the TCM will start when the 17th Street bridge opens to traffic and will continue on an annual basis until ten years following redesignation by EPA of the Atlanta area to attainment under the NAAQS for ozone. In addition, the TCM will be evaluated by the City of Atlanta, EPD, and EPA using performance targets defined in the TCM for VMT per resident, VMT per employee, mode split, and total daily vehicle trips. If it is determined that the TCM is not meeting or beating the performance targets, then the developer will identify funding or fund the creation of a TMA for the site for a period of 20 years (if employers on the site aren't already participating in one), and the City of Atlanta will work with the TMA to develop and implement measures to help the TCM meet the performance targets. However, the manner of evaluating the performance of the TCM will differ slightly depending on whether it is done: (1) during the first five years following the opening of the 17th Street bridge to traffic, or (2) during the sixth year following the opening of the 17th Street bridge to traffic or thereafter.

EPA expects the first five years following the opening of the 17th Street bridge to traffic to be an interim period during which the redevelopment will be undergoing construction and the numbers of residents, employees, and uses, and the associated transportation options, patterns, and behaviors on the site will be in a state of flux.

Therefore, the data collected for the TCM during this period may not be representative of the ultimate performance of the project at build-out. Therefore EPA believes this interim period should provide some flexibility to meet the performance targets during the near term, as the site matures, while ensuring that the project demonstrates progress toward the final TCM performance targets for year six and thereafter.

EPA agrees with the commenter that the performance targets for the interim period in the proposed rulemaking were insufficient. In the proposed rulemaking, the TCM was required to perform better than the regional averages for VMT per resident, VMT per employee, and mode split during the interim period, but it did not have to demonstrate progress toward meeting the final performance targets for year six and thereafter. Therefore, the TCM has been revised so that it is required to perform better than the regional averages and demonstrate progress toward meeting the final performance targets during the interim period. The TCM will be evaluated at two, three-and-a-half, and five years following the opening of the 17th Street bridge to traffic. As in the proposal, in year two, the TCM must perform better than the regional averages. However, in year three-and-a-half, the TCM must perform better than it does in year two (unless it is already meeting or beating the final performance targets), and in year five, it must perform better than it does in year three-and-a-half.

Starting the sixth year after the 17th Street bridge opens to traffic, the performance of the TCM will be compared with the final TCM performance targets. EPA would not approve the Atlantic Steel TCM if it did not believe that the project has the potential to perform significantly better than the regional averages in terms of VMT per resident, VMT per employee, and mode split. Therefore, the final Atlantic Steel TCM performance targets are set at levels that beat the current Atlanta regional averages by 20 percent or more, and EPA expects the project to easily attain the target values.

16. Comment: “The TCM Document fails to provide performance targets that capture the majority of projected trips generated by the site. In its analysis of trips generated by the Atlantic Steel site, the Georgia Department of Transportation (GDOT) projected that retail trips, exclusive of office and residential trips, would account for approximately 45% of all weekday and 58% of all weekend trips generated by the site. The effectiveness of the site as a TCM depends largely on its ability to reduce the number of trips generated by the site, hence the inclusion of performance targets aimed at reducing resident and employee trips. However, if these account, as GDOT projects, for less than half of all trips generated by the site, a performance target of 25% of all resident and employee trips represents only 13.7% of all projected weekday trips (25% of 55%), and 10.5% (25% of 42%) of all weekend trips generated by the site. Therefore, the performance targets account for only half of all projected trips generated by the site and cannot meaningfully measure whether the Atlantic Steel Project is performing effectively. Moreover, EPA's consultants projected that the Atlantic Steel location would perform better than development at alternative regional locations assuming a transit share of 37% of all trips generated by the site, 270-350% above that provided for in the performance targets specified in the TCM Document. Therefore, it is possible that the performance targets specified in the TCM Document could be met at the same time the Atlantic Steel Project produces significantly greater emissions of NOx, VOCs and CO, than those projected by the Hagler Bailly Report. The TCM Document fails to monitor the majority of trips generated by the site. As indicated above, the majority of trips generated by the site are projected to be retail trips. The TCM Document imposes an obligation on the City of Atlanta to collect and maintain data concerning travel behavior of residents and employees on the site but fails to require any information concerning retail trips. Failure to monitor the majority of trips to and from the site undermines the ability of the TMA to implement effective strategies to meet identified performance targets. Moreover, failure to monitor retail trips generated by the site prevents EPA from determining that the Atlantic Steel TCM is successful in producing regional emissions benefits even if performance targets for residents and employees are met. To justify designation as a TCM, the Atlantic Steel development must be able to demonstrate regional air quality emissions benefits. Without adequate information concerning retail trips, the EPA cannot rationally measure the effective of the measure as a TCM. For this reason, the TCM Document fails to comply with this EPA requirement for designation as a TCM.”

Response: EPA does not believe that the effectiveness of the Atlantic Steel TCM depends largely on its ability to reduce trips generated by the site, but rather on: (1) its ability to reduce the average distance of trips to and from the site compared to the trips that might have occurred had the development been built at other likely areas in the region; (2) its ability to reduce the number of trips that leave the site (i.e., a high internal capture rate); and (3) its ability to shift the trips made to, from, and on the site to modes of transportation other than the single-occupancy vehicle (SOV). This is why the TCM contains site design criteria—to ensure that the site is built with the densities, mix of uses, and transit and pedestrian features to support a high internal capture rate and transit mode split—and performance targets for VMT per resident and VMT per employee and percentage of trips by non-SOV modes.

At the same time, EPA recognizes that trips generated by and attracted to the redevelopment will have localized impacts that accrue with each additional trip. Therefore, a new performance measure has been added to the Atlantic Steel TCM to help limit the localized impacts due to trips to and from the redevelopment. The new performance measure addresses average daily total vehicle trips to and from the site, other than by transit, for all purposes combined, including retail trips. Daily total vehicle trips include those trips that have an on-site origin and an off-site destination, and trips that have an off-site origin and an on-site destination. It does not include trips that pass through the site but do not have an on-site origin or destination, and it does not include trips that have both an on-site origin and an on-site destination (i.e., internal capture). The target value for average daily total vehicle trips is 72,000 or less. This number is based on the predicted total vehicle trips for the site used in the CO hotspot analysis, EA, and 17th Street Concept Report. If the project exceeds this target, then the same contingencies take effect as in the case when any of the other performance targets is not met.

The reason that the TCM performance measures target only the trips made by residents and employees of the redevelopment is because the characteristics of the retail trips would be difficult to measure. However, the TCM allows the City of Atlanta to request that other information, such as characteristics of retail trips, be collected as a part of the TCM monitoring process. The new total vehicle trips performance measure will help constrain the emissions impacts of all trips to and from the redevelopment, including retail trips.

17. Comment: “Further, the TCM Document acknowledges that without approval of an Information Collection Request (ICR) any component of the monitoring that requires a survey of ten or more people may not be enforceable. The TCM Document does not address the likelihood of obtaining such an approval. If the EPA is unable to enforce the monitoring requirements imposed in the TCM Document and thus unable to assess the effectiveness of the measure, designation of the Atlantic Steel site as a TCM cannot be rationally justified.”

Response: Under the Paperwork Reduction Act and Office of Management and Budget (OMB) regulations, OMB cannot approve a collection of information for a period longer than three years. (See 35 U.S.C. 3507(g); 5 CFR 1320.11(j).) However, it will be several years before monitoring of the Atlantic Steel TCM performance will commence, and therefore it would serve no purpose to submit an ICR at this time, as it would likely expire before data collection begins. Instead, EPA will wait to submit an ICR to OMB until the time for monitoring (i.e., the opening of the 17th Street bridge to traffic) draws near. If, as a result of OMB review, EPA determines that revisions to the rule are appropriate, EPA will reopen its final rulemaking to ensure that the performance of the Atlantic Steel TCM will be adequately monitored.

18. Comment: “There is inadequate provision of transit to the site to justify its designation as a TCM. The TCM Document assumes the redevelopment plan includes a linkage to MARTA. The TCM Document, however, requires the developer to maintain the shuttle bus service to the MARTA station only for 10 years after the 17th Street bridge opens to traffic. After that time, there will be no transit servicing the site unless some other agency steps in. Except for the shuttle bus service the developer must provide, there is currently no commitment of funds for the provision of transit service to the Atlantic Steel site. Further, the importance of transit servicing the site is evidenced by the high transit share assumption used by EPA's consultants in analyzing the positive estimated emissions benefits from the Atlantic Steel Project compared with alternative regional locations. Hagler Bailly assumed a transit share of 37% for the Atlantic Steel Project, a modal split that will be impossible to achieve if no transit service exists. For this additional reason, designation of the Atlantic Steel Project as a TCM cannot be supported by a rational administrative body.”

Response: The TCM has been revised to include a commitment by the developer to provide the rubber-tired shuttle service at least until December 31, 2015, which could be longer than 10 years, unless an appropriate entity operates a fixed mass transit link providing a similar level of service before that date. (See response to comment #10.)

Although currently there is no commitment of funds for transit service to the Atlantic Steel site beyond the developer's commitment, EPA believes it is reasonable to expect that transit will continue to serve the Atlantic Steel redevelopment after the developer's commitment expires. The 2025 Regional Transportation Plan (RTP) for the Atlanta region adopted by ARC anticipates assigning $1,677,000,000 for the construction of a light rail line from the MARTA Arts Center station through the Atlantic Steel redevelopment and extending northwest to the Town Center area in Cobb County (RTP projects AR-251A, AR-251B, and AR-251C). The first phase of the project, which would connect the MARTA Arts Center station to the Cumberland area through the Atlantic Steel redevelopment, is anticipated to be operational by 2010. The developer has committed in the TCM to provide without cost right of way in the development to MARTA or other acceptable entity for the construction of a transit linkage connecting the Atlantic Steel site to the MARTA Arts Center station.

In addition, the RTP includes $1,000,000 for a downtown westside transit study (AR-325). One of the objectives of the Central Atlanta Transportation Study (CATS), currently underway, is to develop alternatives for mobility between the Atlantic Steel redevelopment and the Georgia World Congress Center and destinations between, including transit. EPA also believes that MARTA will expand or alter its existing bus routes to include service to the Atlantic Steel site once the redevelopment attains a transit-supportable level of residents, employees and other trip generators.

For these reasons, EPA believes that the transit commitment supports approval of the Atlantic Steel TCM.

19. Comment: “The TCM Document fails to demonstrate that achievement of performance targets identified will result in improved regional emissions. The TCM Document includes a transit capture target of 25% to be measured after two-thirds build-out or six years after the 17th Street bridge opens to traffic, whichever occurs first. In its comparative analysis of the Atlantic Steel Project with development at other regional locations, Hagler Bailly assumed a transit capture of 37%. If a mode split of only 25% is achieved, the TCM Document does not indicate how this will impact regional air emissions or whether the underlying justification for designation of the Atlantic Steel Project as a TCM still applies nor does it indicate whether CO hotspots might result.”

Response: The TCM includes a performance target that requires 25 percent or more of all trips to, from and on the site made by residents and employees combined, to use modes other than SOV. This target is not restricted to transit, but may also include pedestrian, bike, and HOV modes. EPA anticipates, however, that roughly 15 percent of the trips will be made via transit. This is consistent with the regional emissions modeling performed for the TCM and the CO hotspot analysis.

20. Comment: “The TCM Document does not include accurate data on the plans for development of the site. The TCM Document describes the proposed development to occur on the site. At the public information meeting on April 18, 2000, the developer indicated that it planned to build in excess of 3,600 residential units on the site. The SIP revision should accurately reflect current plans for the development.”

Response: The developer has revised the site plan to match the assumptions contained in the TCM. In addition, as discussed in response to comment #16, a new performance target for total vehicle trips has been added to the TCM to limit total vehicle trips to and from the redevelopment. The new performance target is designed to help limit localized traffic and air quality impacts without constraining the amount of development at the site. Therefore, any increase in the amount of development over the numbers contained in the TCM should not result in higher emissions than those projected in EPA's analyses.

21. Comment: “The number of lanes on the bridge must be reduced and the design speed must be 25 mph. We oppose any extension of the bridge's vehicular traffic lanes to West Peachtree Street and/or Peachtree Street. There is currently no 17th Street between Spring Street and West Peachtree Street which provides a buffer that protects the Ansley Park historic residential neighborhood. Creating a passage along 17th Street will funnel thousands of cars directly at Ansley Park and will invite drivers to use Ansley Park as an east-west cut-through to get not only to the Atlantic Steel site but also directly to the interstates.”

Response: EPA encourages GDOT to design the 17th Street bridge and associated interchange and roadway projects to maximize pedestrian, bicycle and transit orientation while minimizing additional SOV capacity. However, GDOT is responsible for determining the safe and appropriate number of lanes and design speeds for this project. Details regarding GDOT's traffic studies may be found in the 17th Street Concept Report and in the EA for the 17th Street Extension and Atlantic Steel Redevelopment. These documents are included in the docket for this rulemaking.

Regarding extension of the 17th Street to West Peachtree and Peachtree Streets, Spring and West Peachtree Streets form a north-south one-way pair, and therefore West Peachtree is a logical terminus of the extension of 17th Street. Once again, it is the responsibility of GDOT to design the roadways consistent with the need and purpose of this project. In addition, GDOT has determined that the design speed for 17th Street will be 35 mph. However, the City of Atlanta will be responsible for posting and enforcing speed limits on 17th Street and surrounding roadways, and may set the speed limits lower than the design speeds.

22. Comment: “The Georgia Department of Transportation (Georgia DOT) has designed the bridge and related highway improvements to accommodate suburban style vehicular access to Midtown and the Atlantic Steel site. The size and design of the vehicular access is inappropriate for transit-oriented development. The health of citizens and the future economic vitality of the region require that we create places where riding transit and bikes, and walking are the preferred means of travel. Midtown is one of the few places in the region where we have the mix of uses, transit service and density to create true transit-pedestrian oriented living and working. The emphasis for this area should be on improving transit and pedestrian access.”

Response: The 17th Street bridge will include a transition into Midtown to connect with existing surface streets in the area. This will require modifications to several surface streets and intersections in the surrounding area (e.g., Spring Street, West Peachtree Street, Peachtree Street, Williams Street, 14th Street, 16th Street, Techwood Drive). The original design for 17th Street and its connection to existing surface streets and intersections was based primarily on capacity criteria related to accommodating future traffic volumes. However, the City of Atlanta and a number of public, community, and business leaders expressed significant concerns about the scope and extent of the proposed modifications.

In response to these concerns, several key intersections and surface streets were redesigned. Additional urban design criteria were considered such as pedestrian safety and aesthetics, with less emphasis on accommodating future traffic volumes. The focus of the changes was to reduce: driving speeds, lane widths, the number of through and turning lanes, and turning radii of intersections. The ultimate objective was to balance the needs of cars, buses, bicycles, and pedestrians to better integrate 17th Street into the urban fabric of Midtown, and coordinate more closely with the vision for Midtown provided by the Midtown Alliance and “Blueprint Midtown.” Details regarding the redesign may be found in the 17th Street Concept Report and in the EA for the 17th Street extension and Atlantic Steel redevelopment. These documents are included in the docket for this rulemaking.

23. Comment: “The only additional vehicular access from the Interstate highways to Midtown and Atlantic Steel should be for high occupancy vehicles. Creating more access for SOVs creates a time disincentive for people to ride transit to the site. There are already three SOV ramps in each direction from the Interstates to Midtown, but there are no dedicated HOV ramps. In addition, the design of any vehicular access to Midtown should assume that vehicles exit the freeway at or below the posted speed for the Interstate. Excess speed on the Interstates and other roadways contribute significantly to the region's air pollution problems. GDOT has contributed to the speed problem by designing most Interstates in the region for an average speed of 70 mph. Any roadway improvements in the Midtown area should improve pedestrian access. Without high quality and continuous pedestrian facilities transit does not work. Turn radii and crosswalk lengths must be minimized. Finally, the construction of any roadway improvements should be staged to prevent excess capacity early from inducing additional vehicular travel, and to provide an incentive for using transit. Specifically, the bridge itself should have no more than one SOV lane in each direction. An additional lane in each direction should be reserved for buses only.”

Response: Several alternatives were considered that would provide HOV access as part of the project. The first alternative considered direct HOV access to and from the 17th Street bridge. However, due to engineering and site constraints, it was determined that HOV access could be provided to the bridge, but no return access to the Interstate could be provided. In addition, provision of HOV access from the Interstate would significantly impact the future ability to redesign the Interstate-75 southbound to Interstate-85 northbound loop. Therefore, direct access to the 17th Street bridge was not considered further.

Several additional HOV access alternatives were considered: (1) access at 5th Street and a new 12th Street HOV-only bridge; (2) HOV-only bridge at 15th Street; and (3) reconfiguration of the 14th Street bridge to accommodate HOV access. However, due to the scope of these alternatives and based on the concerns raised by the public and other agencies, it was decided to separate out HOV access from this project. A future regional study examining the optimal location of HOV access into Midtown and potentially Atlantic Steel will be completed as a separate project. The design of the 17th Street bridge will not preclude any possible HOV access alternatives that may be identified in the future.

As EPA explained in response to comment #21, GDOT is responsible for designing the 17th Street bridge and associated interchange and roadway modifications. However, as explained in response to comment #22, GDOT has responded to many of the commenter's concerns by redesigning several key intersections and surface streets in the project. Details regarding the redesign may be found in the 17th Street Concept Report and in the EA. These documents are included in the docket for this rulemaking.

24. Comment: “The developer is potentially held in jeopardy if the City of Atlanta and MARTA do not implement the transit service described in the agreement. The development at this site should only be allowed if there is a dedicated funding source for the transit service. Specifically, an increment of the increased taxes collected from development at and near the Atlantic Steel site be dedicated to transit service connecting the site to adjacent neighborhoods, downtown and the Arts Center rail station.”

Response: It is the developer, not the City of Atlanta or MARTA, that has committed to provide the transit service described in the TCM. Therefore, the developer will be responsible for funding and implementing the transit service, whether it is through public or private sources, or a combination of the two. As suggested by the commenter, it is possible that a portion of the funds generated by the Brownfield Area Tax Allocation District #2, which includes the Atlantic Steel redevelopment, may be used to support the transit service.

25. Comment: “We are concerned that the proposed transportation improvements for the Atlantic Steel site do not meet the standards for transit service or transit oriented design necessary to justify the TCM designation for the highway improvements. We are especially concerned that the large highway improvements will undermine the developer's emphasis on transit accessibility.”

Response: EPA believes that the transit components of the project support the TCM designation. In particular, the transit components include: a 10-plus year commitment by the developer to provide a shuttle bus connection to the site that will be well integrated into the MARTA Arts Center station; a high level of service with hours of operation and headways that complement the train schedule at the MARTA Arts Center station; a route that covers the site, including four stations and six stops; compliance with the Americans with Disabilities Act; dedicated transit lanes with possible signal prioritization; a transit-oriented site design criterion; a requirement that the 17th Street bridge be designed to accommodate future rail transit; and the developer's intention to utilize alternatively-fueled buses. EPA continues to encourage GDOT to design the associated roadway improvements to maximize the transit, pedestrian, and bicycle orientation of the project.

26. Comment: “We do not believe the Environmental Protection Agency has adequately responded to the concerns and suggestions made by the Environmental Defense Fund (EDF) in a letter dated February 1, 1999. In addition, the analysis of the TCM Document by APCA in a letter dated May 10, 2000, raises serious concerns about the technical adequacy of the transportation and development analysis. Before approving the TCM for the 17th Street bridge and related highway improvements EPA should review the issues raised by EDF and APCA, correct deficiencies in the analysis and respond to the issues raised.”

Response: EPA has responded to APCA's May 10, 2000, letter in the responses to comments #1 through #21. In addition, EPA collaborated with the City of Atlanta and the developer to revise the proposed TCM to help address concerns raised by APCA. EPA is approving the TCM and revisions.

EPA responds to the issues raised in the February 1, 1999, EDF letter below.

27. Comment: “We want to be assured that, as a TCM, the package that includes the 17th Street bridge/interchange will demonstrate a contribution to better air quality, rely on rigorous evaluation and follow-up measures, be a real, permanent, and legally enforceable part of the SIP, and be subject to EPA approval, with opportunities for meaningful and substantive public involvement. Once the bridge, interchange, and related real estate development is built, it will not be possible to shut these down if they fail to meet their planned performance objectives.”

Response: In the proposed rulemaking, EPA described in detail: the regional emissions analysis which indicates that implementation of the TCM will contribute to better air quality; the site design criteria, performance targets, and monitoring and evaluation plans which will help ensure that the TCM will meet the planned performance objectives; and the legal enforceability of the TCM. EPA believes that the public has had many opportunities for meaningful and substantive involvement in the development of the Atlantic Steel TCM through the Project XL, NEPA, and TCM processes. For example, as described earlier, the APCA's May 10, 2000, letter resulted in several revisions to the proposed TCM. In fact, as mentioned in the response to comment #2, EPA believes that there has been a much greater opportunity for public involvement in the Atlantic Steel TCM than there would be in the development of a typical TCM. A listing of public and interagency meetings regarding the Atlantic Steel project is contained in the docket for this rulemaking. In addition to the past opportunities for public involvement, the proposed TCM was revised to require that the developer and the City of Atlanta continue to meet with Neighborhood Planning Unit E and the Midtown Alliance as the Atlantic Steel site builds out to review the latest site plan and to discuss the preliminary results of the monitoring.

28. Comment: “Great care must be exercised in developing the project agreements, detailing realistic, but ambitious and enforceable quantitative criteria for transportation and environmental performance. These should include vehicle miles of travel, vehicle trip starts and trip ends, and mode share targets, as well as specific emission reduction objectives. These should be grounded in detailed analytic studies, with explication of supportive management and service strategies, and should be backed up by institutional and financial structures strong enough to guarantee compliance over time, with backstop arrangements. We suggest the project agreement and TCM package might be backed with a private performance bond that insures resources will be available to implement transit and TMA management measures as needed to meet the adopted performance criteria in the event of a financial default by the developer or failure of the TMA or transit service agreements to comply with the agreements.”

Response: As described in the proposed rulemaking and in response to comment #16, the TCM contains performance targets for VMT per resident and employee, non-SOV mode split, and total vehicle trips to and from the site. These performance measures are based in part on the regional modeling performed by EPA using ARC's travel demand model. The TCM also includes an enforceable commitment by the City of Atlanta to coordinate with the TMA for the site to develop and implement additional measures to help the project meet the targets if necessary. However, as explained in response to comment #13, EPA believes that it is not necessary for the City of Atlanta to identify funding sources for potential additional measures until such time as they may be needed.

29. Comment: “The location alone is not an adequate basis for deeming this or other land-use related projects as TCMs or awarding air quality credit to them. There are several factors that will have a profound impact on the travel behavior and air quality impacts related to the redevelopment and the related Bridge/Interchange TCM package. These include: the quality, quantity, location, and design of transit services and connections of the proposed redevelopment site to MARTA stations and to other regional trip generators and attractors; the degree of pedestrian and bicycle friendliness of urban and street design in and around the Atlantic Steel site; the supply, location, and price of parking, and other travel prices and incentives offered to travelers to and from the site; the design of the Bridge/Interchange itself and the way in which it connects across the Interstate highway. The project agreement, and the package that is submitted to become a part of the TIP, RTP, and SIP must clearly define these elements.”

Response: EPA agrees that location alone is not an adequate basis for deeming this project a TCM. EPA is approving this TCM for a variety of reasons in addition to its location, as described in the proposed rulemaking, including most of those mentioned by the commenter. EPA believes that the elements that make this project a TCM are clearly defined in the SIP and 17th Street Concept Report. These documents are included in the docket for this rulemaking.

30. Comment: “To meet these objectives, the project should include guaranteed funding mechanisms (such as a development district tax) for a Transportation Management Association (TMA) for the project and surrounding district. The TMA should be a public-private partnership with the power to influence key elements that shape travel behavior and emissions related to the Atlantic Steel site.”

Response: The formation of a TMA for Midtown is currently underway. In the fourth quarter of 2000 the business plan will be refined, marketing materials designed and printed, programs developed, and base line data statistics established. The Midtown TMA will begin offering transit programs beginning in January 2001. The TMA will cover roughly the area bounded by Northside Drive to the west, Piedmont Road to the east, the Interstate-75/85 Brookwood Interchange to the north, and Ralph McGill Boulevard to the south. The TMA will be funded initially through the Midtown Community Improvement District (MID), ARC and the Atlanta Transportation Improvement Program. Long term funding is expected to be through the MID and through fees paid by members of the TMA who are not also contributing to the MID. It is expected that the developer of Atlantic Steel will be invited to sit on the Advisory Board for the Midtown TMA, and that employers on the Atlantic Steel site will join the TMA as they come on-line.

31. Comment: “We are concerned that while the Bridge and Interchange have undergone significant preliminary engineering, there is still little specificity about the transit service connections to be provided to the Atlantic Steel site. Without a specific plan and financing arrangement, this missing key element seems enough to deem the project inadequately defined to make up an approvable TCM. And under current circumstances, unless the project is defined well enough to be an approvable TCM, we do not see how it can legally be approved as a part of the TIP, RTP, or SIP. We would hope to see a very high frequency transit connection between the Atlantic Steel site and MARTA, with service throughout the day and into the night that allows travelers to travel most of the time without worrying about scheduled connections. While light rail may be attractive, given the need for rapid deployment of a high quality transit link, flexible phasing of service, and currently limited financing, this context might be appropriate for application of a bus rapid transit system strategy, like that in Curitiba, Brazil, with high level boarding separate from fare collection, with designated stations, and potential to serve multiple trip origins.”

Response: The proposed transit service for the Atlantic Steel redevelopment is described in detail in the December 16, 1999, report entitled “Transit Connection Atlantic Steel Redevelopment Project to MARTA Arts Center Station Atlanta, Georgia.” EPA believes that the proposed transit service incorporates many of the suggestions made by the commenter. The transit report is included in the docket for this rulemaking.

32. Comment: EDF recommended several programs, incentives, and site design features (e.g., Employee Commuter Choice incentives, parking excise levies, bundling free or highly discounted annual regional transit passes with each residential unit, car sharing systems, real-time ridesharing services, secure short and long term bicycle parking) for inclusion in the TCM that would influence travel choice to the site.

Response: EPA will continue to encourage the City of Atlanta, the TMA (when it exists), and the developer to consider the kinds of programs, incentives, and design features suggested by EDF. However, EPA believes it is more appropriate that the City of Atlanta, the TMA, and the developer identify the most effective programs and detailed design features through evaluation of the data that will be collected as part of the monitoring requirements of the TCM, rather than prescribing them in the TCM.

33. Comment: “The choice of bridge design will have a major effect on the travel behavior in the area of Atlantic Steel and cannot be ignored in developing air quality agreements. The 17th Street bridge/interchange Concept Report, dated December 21, 1998, offers a preferred alternative that would extend the freeway into the city on both sides of the Interstate. This preferred alternative should be rejected as inappropriate for designation as a TCM. The facility should be redesigned to extend the city's arterial street grid over the freeway, using the bridge as a buffer to the freeway that now slashes the city in half. A lower level facility that would allow 17th Street to intersect with Spring Street on the east of Interstate-75 and that would connect with the street grid as close as possible on the west side of Interstate-75, without the added collector-distributor connections between 14th Street and the freeways north of 17th Street, would be less oriented towards high speed vehicle movement but would enhance pedestrian connectivity. The preferred alternative with a high signature bridge would create a dehumanized environment oriented mostly toward cars. With that design few would choose to walk between the West Peachtree Street/Art Center MARTA station and the Atlantic Steel site. A better alternative would be a more horizontal engineering structure, like that in Seattle's Freeway Park, reconnecting the east and west side neighborhoods with a decked structure over the freeway for a good portion of the distance between 14th and 17th Streets. This could include landscaping, space for market stalls or kiosks, sculptural elements, and elements that would humanize and energize this as a safe and inviting pedestrian environment, with insulation from freeway noise and pollution.”

Response: The 17th Street Concept Report has been revised since December 21, 1998, such that the preferred alternative for the 17th Street bridge now intersects with Spring Street on the east side of the interstate. As mentioned in the response to comment #22, the concept has also been revised to better balance the needs of cars, buses, bicycles, and pedestrians, to better integrate 17th Street into the urban fabric of Midtown, and to coordinate more closely with the vision for Midtown provided by the Midtown Alliance and “Blueprint Midtown.” Furthermore, the preferred alternative for the 17th Street bridge does not contain direct connections to the collector-distributor system between 14th Street and the freeways north of 17th Street. Although the preferred alternative does not envision the decked structure over the freeway suggested by EDF, the actual design of the 17th Street bridge has not been finalized. However, there is general agreement that the 17th Street bridge should be designed as a “gateway” structure into the heart of Downtown Atlanta, if possible. Regardless, qualified landscape architects will work to ensure that aesthetic values and overall compatibility with existing and future Midtown streetscapes are achieved in the course of final bridge and roadway design. In addition, EPA will continue to encourage GDOT to design the bridge to maximize pedestrian, bicycle, and transit-friendly elements, such as those suggested by EDF.

34. Comment: “We are also concerned that the traffic analysis of the Interchange/Bridge prepared for GDOT is based simply on ITE trip generation rates, reduced by a 10% internal capture and a 15% transit share. We are unsure what is the basis for these assumptions. The traffic analysis should not drive the bridge and interchange design, but alternative designs should be considered with appropriate sensitivity to stated assumptions about travel incentives, transit service levels, pedestrian friendliness, and other factors.”

Response: The traffic analysis of the 17th Street bridge and associated roadway improvements is based on ITE trip generation rates, and 1998 observed traffic counts in the study area, grown to the future analysis year, as described in response to comment #6. These assumptions were based on the professional judgment of GDOT, and they are consistent with the state of the practice for traffic analyses. Although the traffic analysis did drive much of the early concept for the 17th Street bridge and associated roadway improvements, as discussed in response to comment #22, GDOT has since revised the concept for several key intersections and surface streets to reduce: driving speeds, lane widths, the number of through and turning lanes, and turning radii of intersections. Details may be found in the 17th Street Concept Report and in the EA for the 17th Street extension and Atlantic Steel redevelopment, which are included in the docket for this rulemaking.

III. Final Action

EPA is approving the Atlantic Steel TCM into the SIP under authority of section 110 of the CAA.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order.

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 27, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Ozone.

Dated: August 16, 2000.
John H. Hankinson, Jr.,
Regional Administrator, Region 4.

Part 52 of chapter I, title 40, Code of Federal Regulations, is amended as follows:

PART 52—[AMENDED]

1. The authority citation for part 52 continues to read as follows:

Authority: 42.U.S.C. 7401 et seq.

Subpart L—Georgia

2. In § 52.570 paragraph (e), the table is amended by adding a new entry “13.” to read as follows:

§ 52.570 Identification of plan.

* * * * *

(e) * * *

Name of nonregulatory SIP provision | Applicable geographic or nonattainment area | State submittal date/effective date | EPA approval date
* * * * * * *
13. Atlantic Steel Transportation Control Measure | Atlanta Metropolitan Area | March 29, 2000 | August 28, 2000

[FR Doc. 00-21906 Filed 8-25-00; 8:45 am]

BILLING CODE 6560-50-P